DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Harry (Sonny) L. Evans, Jr. San Antonio, TX, PRT-032508.

The applicant requests a permit to import the sport-hunted trophy of one male bontebok (Damaliscus pygargus dorcas) culled from a captive herd maintained under the management program of the Republic of South Africa, for the purpose of enhancement of the survival of the species.

Applicant: Daniel Brunner, San Antonio, TX, PRT-032500.

The applicant requests a permit to import the sport-hunted trophy of one male bontebok (Damaliscus pygargus dorcas) culled from a captive herd maintained under the management program of the Republic of South Africa, for the purpose of enhancement of the survival of the species.

Applicant: Smithsonian National Zoological Park, Washington, DC 20008, PRT-700309.

The applicant seeks to renew their permit to take, import, export, re-export, and purchase in interstate and foreign commerce blood, hair, and other tissue samples and salvaged carcasses from any endangered wildlife exotic to the United States for the purpose of scientific research to enhance the survival of endangered species in the wild. Samples are to be obtained from wild, captive held, or captive born animals. Samples collected from animals in the wild are to be done so opportunistically during immobilization of the animals by local wildlife management officials. Wild animals may be immobilized, but not harmed, for collection of samples. This notification covers activities conducted by the applicant over a five year period.

Applicant: The Peregrine Fund, Boise, ID, PRT-819573.

The applicant requests a permit to import live harpy eagle (Harpia harpja), blood, tissue, and DNA samples and to export/re-export live birds as part of an on-going conservation project which enhances the survival and propagation of this species. This notice covers activities conducted by the applicant over a five year period.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: Phil Mancuso, Staten Island, NY, PRT-034958.

The applicant requests a permit to import a polar bear (Ursus maritimus) sport-hunted from the Cambridge Bay polar bear population, Northwest Territories, Canada for personal use.

Written data or comments should be submitted to the Director, U.S. Fish and Wildlife Service, Division of Management Authority, 4401 North Fairfax Drive, Room 700, Arlington, Virginia 22203 and must be received by the Director within 30 days of the date of this publication.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: October 20, 2000.
Charlie Chandler,
Chief, Branch of Permits, Division of Management Authority.

[FR Doc. 00-27509 Filed 10-25-00; 8:45 am]

BILLING CODE 4310-55-P